DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Division, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Mitigation Division Director of FEMA has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | #Depth in feet above ground. *Elevation in feet (NGVD) +Elevation in feet (NAVD) Modified
Town of Whitehall, Montana
Docket No.: FEMA-B-7472
Montana | Town of Whitehall | Whitetail Creek | Approximately 1.98 miles downstream of Highway 55 | +4,333
|  |  | Approximately 1.1 miles upstream of Interstate 90 West Bound | +4,386
* National Geodetic Vertical Datum.
# Depth in feet above ground.
+ North American Vertical Datum.
ADDRESSES
Maps are available for inspection at: Town Hall, 2 North Whitehall, Whitehall, MT.

Flooding source(s) | Location of referenced elevation | *Elevation in feet (NGVD) +Elevation in feet (NAVD) # Depth in feet above ground Modified | Communities affected
Marengo County, Alabama, and Incorporated Areas
Docket No.: FEMA-B-7472
Falling Creek | Approximately 3250 feet downstream of Whitfield Canal | +150 | City of Demopolis.
| Approximately 500 feet downstream of Whitfield Canal | +154 |
Tombigbee River | Demopolis Lock and Dam | +94 | City of Demopolis.
| Confluence with Short Creek | +94
* National Geodetic Vertical Datum.
# Depth in feet above ground.
+ North American Vertical Datum.
ADDRESSES
City of Demopolis
Maps are available for inspection at 211 N. Walnut Avenue, Demopolis, AL 36732.
Fremont County, Colorado and Incorporated Areas
Docket No.: FEMA-B-7464
Arkansas River | Approximately 0.19 miles downstream of State Rt. 115 | +5,096 | City of Florence, Fremont County (Unincorporated Areas), City of Canon City.
| Approximately 0.53 miles upstream of confluence of Sand Creek | +5,364 |
Chandler Creek | Confluence with Arkansas River | +5,174 | Fremont County (Unincorporated Areas), Town of Williamsburg.
| Approximately 0.30 miles upstream of County Rd. 11A | +5,387 |
Coal Creek | Approximately 0.22 miles upstream of confluence with Arkansas River | +5,153 | City of Florence, Fremont County (Unincorporated Areas).
| Approximately 1.19 miles upstream of Railroad Street | +5,231 |
Coal Creek East Overflow | Approximately 0.44 miles above confluence with Arkansas River | +5,134 | City of Florence, Fremont County (Unincorporated Areas).
| Approximately 600 feet upstream of Robinson Avenue at divergence from Coal Creek Main Channel | +5,180 |
Coal Creek West Overflow | Approximately 0.34 miles above confluence with Arkansas River | +5,153 | City of Florence, (Fremont County Unincorporated Areas).
| Divergence from Coal Creek Main Channel | +5,188 |
Forked Gulch | At confluence with Arkansas River | +5,336 | City of Canon City.
| Confluence with West Forked Gulch | +5,451 |
Minnequa Canal | Approximately 760 feet above Lock Avenue | +5,199 | City of Florence, Fremont County (Unincorporated Areas).
| Confluence of Oak Creek | +5,209 |
Northeast Canon Drainage East Branch | At Confluence with Arkansas River | +5,301 | City of Canon City, Fremont County (Unincorporated Areas).
| Approximately 0.85 miles upstream of Tennessee Avenue | +5,548 |
Northeast Canon Drainage West Branch | Confluence with East Branch | +5,320 | City of Canon City, Fremont County (Unincorporated Areas).
| Approximately 0.62 miles upstream of Washington Street | +5,501 |
Oak Creek | Approximately 325 feet above confluence with Arkansas River | +5,156 | City of Florence, Fremont County (Unincorporated Areas), Town of Williamsburg, City of Canon City.
| Approximately 550 feet upstream of Quincy Street | +5,341 |
Oak Creek Right Over Bank | Approximately 600 feet downstream of West Seventh Street | +5,154 | City of Florence.
| Approximately 150 feet upstream of Second Street | +5,190 |
Sand Creek | At confluence with Arkansas River | +5,356 | City of Canon City.
| Approximately 0.92 miles upstream of confluence with Arkansas River | +5,431 |
Southeast Canon Drainage | At confluence with Arkansas River | +5,312 | City of Canon City.
| Approximately 0.60 miles upstream of confluence with Arkansas River | +5,368 |
West Forked Gulch | Confluence with Forked Gulch | +5,452 | City of Canon City.
| Approximately 500 Feet upstream of confluence with Forked Gulch | +5,474 |
West Forked Gulch | Approximately 0.59 miles upstream of the confluence with Forked Gulch | +5,529 | City of Canon City.
| Approximately 0.973 miles upstream of confluence with Forked Gulch | +5,573 |
* National Geodetic Vertical Datum.
# Depth in feet above ground.
+ North American Vertical Datum.
ADDRESSES
Fremont County (Unincorporated Areas)
Maps are available for inspection at: The Administration Building, 615 Macon Avenue, Room 105, Canon City, Colorado.
City of Canon City
Maps are available for inspection at: City Hall, 128 Main Street, Canon City, Colorado.
City of Florence
Maps are available for inspection at: The Municipal Building, 300 West Main St, Florence, Colorado.
City of Williamsburg
Maps are available for inspection at: City Hall, 1 John Street, Williamsburg, Colorado.
Carroll County, Georgia and Incorporated Areas
Docket No.: FEMA-B-7701
Beulah Creek | At the confluence with Little Tallapoosa River | +988 | City of Carrollton.
| At Columbia Drive | +988 |
Buffalo Creek Tributary 1 | At Strickland Road | +1043 | City of Carrollton.
| Approximately 900 feet upstream of Strickland Road | +1043 |
Chandler's Spring Creek | At the confluence with Little Tallapoosa River | +992 | City of Carrollton.
| Just upstream of William Street | +992 |
Curtis Creek | At the confluence with Little Tallapoosa River | +994 | City of Carrollton.
| At Lake Carroll Dam | +994 |
Little Tallapoosa River | Approximately 2,275 feet upstream of confluence of Buck Creek | +978 | City of Carrollton.
| Approximately 2,800 feet upstream of Northside Drive | +995 |
Little Tallapoosa River Tributary | At the confluence with Little Tallapoosa River | +993 | City of Carrollton.
| Approximately 2,870 feet upstream of confluence with Little Tallapoosa River | +993 |
Sweetwater Creek | At Carroll/Douglas County boundary | +979 | Carroll County (Unincorporated Areas).
| Approximately 1,510 feet upstream of the Carroll/Douglas county boundary | +982 |
Tanyard Branch | At confluence with Little Tallapoosa River | +992 | City of Carrollton.
| Approximately 135 feet upstream of River Drive | +992 |
* National Geodetic Vertical Datum.
# Depth in feet above ground.
+ North American Vertical Datum.
ADDRESSES
Carroll County (Unincorporated Areas)
Maps are available for inspection at the Community Map Repository, Carroll County Engineering Department, 315 Bradley Street, Carrollton, Georgia 30117.
City of Carrollton
Maps are available for inspection at the Community Map Repository, Carroll County Engineering Department, 315 Bradley Street, Carrollton, Georgia 30117.
Columbia County, Georgia, and Incorporated Areas
Docket No.: FEMA-B-7472
Bonaire Heights Tributary | At the confluence with Wynngate Tributary | +272 | Columbia County (Unincorporated Areas).
| Approximately 375 feet upstream of the confluence with Wynngate Tributary | +272 |
Furys Ferry Road Tributary East | At the confluence with Reed Creek | +210 | Columbia County (Unincorporated Areas).
| Approximately 100 feet upstream of the confluence with Reed Creek | +210 |
Gibbs Road Tributary | At the confluence with Bettys Branch | +291 | Columbia County (Unincorporated Areas).
| Approximately 130 feet upstream of the confluence with Bettys Branch | +291 |
Holiday Park Tributary | At the confluence with Reed Creek | +301 | Columbia County (Unincorporated Areas).
| Approximately 1,450 feet upstream of the confluence with Reed Creek | +301 |
Jones Creek | At the confluence with Savannah River | +193 | Columbia County (Unincorporated Areas).
| Approximately 3,290 feet upstream of the confluence with Savannah River | +193 |
Tributary No. 2 | At the confluence with Jones Creek | +259 | Columbia County (Unincorporated Areas).
| Approximately 70 feet upstream of the confluence with Jones Creek | +259 |
Tributary No. 3 | At the confluence with Jones Creek | +269 | Columbia County (Unincorporated Areas).
| Approximately 20 feet upstream of the confluence with Jones Creek | +269 |
Owens Road Tributary | At the confluence with Holiday Park Tributary | +322 | Columbia County (Unincorporated Areas).
| Approximately 210 feet upstream of the confluence with Holiday Park Tributary | +322 |
Seaboard Railroad Tributary | At the confluence with Jones Creek | +225 | Columbia County (Unincorporated Areas).
| Approximately 300 feet upstream of the confluence with Jones Creek | +227 |
Watery Branch Tributary | At the confluence with Watery Branch | +197 | Columbia County (Unincorporated Areas).
| Approximately 10 feet upstream of the confluence with Watery Branch | +197 |
Westhampton Tributary No. 1 | At the confluence with Bowen Pond Tributary | +249 | Columbia County (Unincorporated Areas).
| Approximately 75 feet upstream of the confluence with Bowen Pond Tributary | +249 |
Westhampton Tributary No. 2 | At the confluence with Bowen Pond Tributary | +258 | Columbia County (Unincorporated Areas).
| Approximately 20 feet upstream of the confluence with Bowen Pond Tributary | +258 |
Westhampton Tributary No. 3 | At the confluence with Bowen Pond Tributary | +269 | Columbia County (Unincorporated Areas).
| Approximately 70 feet upstream of the confluence with Bowen Pond Tributary | +269 |
* National Geodetic Vertical Datum.
# Depth in feet above ground.
+ North American Vertical Datum.
ADDRESSES
Columbia County (Unincorporated Areas)
Maps are available for inspection at the Community Map Repository, Engineering & Environmental Services Division, P.O. Box 498, 630 Ronald Reagan Drive, Building A, Evans, GA 30809.
Forsyth County, Georgia and Incorporated Areas
Docket No.: FEMA-B-7701
Hurricane Creek | At the confluence with Settingdown Creek | +970 | Forsyth County (Unincorporated Areas).
| Approximately 1,010 feet upstream of the confluence with Settingdown Creek | +970 |
James Creek | At the confluence with Chattahoochee River | +918 | Forsyth County (Unincorporated Areas).
| Approximately 2,400 feet upstream of the confluence with Chattahoochee River | +918 |
Tributary G | At the confluence with Settingdown Creek | +1,140 | Forsyth County (Unincorporated Areas).
| Approximately 100 feet upstream of the confluence with Settingdown Creek | +1,140 |
Tributary J | At the confluence with Settingdown Creek | +1,156 | Forsyth County (Unincorporated Areas).
| Approximately 60 feet upstream of the confluence with Settingdown Creek | +1,156 |
* National Geodetic Vertical Datum.
# Depth in feet above ground.
+ North American Vertical Datum.
ADDRESSES
Forsyth County (Unincorporated Areas)
Maps are available for inspection at 110 East Main Street, Suite 100, Cumming, Georgia 30040.
Whitfield County, Georgia and Incorporated Areas
Docket No.: FEMA-B-7701
Poplar Springs Creek | Approximately 660 feet downstream of Poplar Springs Road | +747 | Whitfield County (Unincorporated Areas).
| Approximately 1,270 feet upstream of Reed Pond Road Northwest | +771 |
* National Geodetic Vertical Datum.
# Depth in feet above ground.
+ North American Vertical Datum.
ADDRESSES
Whitfield County (Unincorporated Areas)
Maps are available for inspection at 1407 Burleyson Drive, Dalton, Georgia 30720.
Frederick County, Maryland and Incorporated Areas
Docket No.: FEMA-B-7456
Ballenger Creek | Confluence with Monocacy River | +249 | Frederick County (Unincorporated Areas).
| Approximately 0.2 mile downstream of Mt. Phillip Road | +422 |
Bush Creek | Confluence with Monocacy River | +255 | Frederick County (Unincorporated Areas).
| Approximately 0.2 mile upstream of Green Valley Road | +413 |
Butterfly Branch (Tributary No. 116) | Confluence with Ballenger Creek | +307 | Frederick County (Unincorporated Areas).
| Approximately 0.3 mile upstream of Jefferson Pike | +388 |
Carroll Creek | Confluence with Monocacy River | +266 | Frederick County (Unincorporated Areas).
| Approximately 2.0 miles upstream of the confluence of Silver Spring Branch (Tributary No. 95) | +702 |
Claggett Run (Tributary No. 129) | Confluence with Rocky Fountain Run | +243 | Frederick County (Unincorporated Areas).
| Approximately 0.4 mile upstream of Fingerboard Road | +297 |
Clifford Branch (Tributary No. 87) | Confluence with Tuscarora Creek | +367 | Frederick County (Unincorporated Areas).
| Approximately 0.3 mile upstream of Hamburg Road | +644 |
Clifford Branch (Tributary No. 98) | Confluence with Rock Creek | +354 | Frederick County (Unincorporated Areas).
| Approximately 0.4 mile upstream of Mt. Phillip Road | +433 |
Detrick Branch (Tributary No. 9) | Confluence with Monocacy River | +268 | Frederick County (Unincorporated Areas).
| Approximately 0.1 mile upstream of N. Market Street | +286 |
Dublin Branch | Confluence with Glade Creek | +279 | Frederick County (Unincorporated Areas).
| Approximately 1.4 miles upstream of confluence with Glade Creek | +331 |
Edison Branch | Confluence with Carroll Creek | +328 | Frederick County (Unincorporated Areas).
| Downstream side of Christophers Crossing | +375 |
Glade Creek | Approximately 0.2 mile downstream of Devilbliss Bridge Road | +279 | Frederick County (Unincorporated Areas).
| Approximately 0.8 mile upstream of Glade Road | +359 |
Horsehead Run | Confluence with Rocky Fountain Run | +247 | Frederick County (Unincorporated Areas).
| Approximately 1.2 miles upstream of confluence with Rocky Fountain Run | +265 |
Israel Creek | Confluence with Monocacy River | +273 | Frederick County (Unincorporated Areas).
| Just downstream of Water Street | +298 |
King Branch (Tributary No. 118) | Confluence with Ballenger Creek | +271 | Frederick County (Unincorporated Areas).
| Just downstream of Arbor Road | +291 |
Linganore Creek | Confluence with Monocacy River | +264 | Frederick County (Unincorporated Areas).
| Just downstream of Gashouse Pike | +327 |
Little Tuscarora Creek | Confluence with Tuscarora Creek | +296 | Frederick County (Unincorporated Areas).
| 0.1 mile upstream of Yellow Springs Road | +509 |
Monocacy River | Confluence with Potomac River | +210 | Frederick County (Unincorporated Areas).
| 0.6 mile upstream of Devilbliss Bridge Road | +288 |
Park Branch (Tributary No. 8/99) | Confluence with Monocacy River | +267 | Frederick County (Unincorporated Areas).
| Downstream side of East Street | +286 |
Pike Branch (Tributary No. 117) | Confluence with Ballenger Creek | +277 | Frederick County (Unincorporated Areas).
| Just upstream of Ballenger Creek Road | +314 |
Rock Creek | Confluence with Carroll Creek | +310 | Frederick County (Unincorporated Areas).
| Just Downstream of Baltimore National Parkway (US 40) | +432 |
Rocky Fountain Run | Confluence with Monocacy River | +243 | Frederick County (Unincorporated Areas).
| 0.2 mile downstream of New Design Road | +310 |
Shookstown Creek (Tributary No. 96) | Confluence of Carroll Creek | +316 | Frederick County (Unincorporated Areas).
| Approximately 0.4 mile upstream of Oakmont Drive | +774 |
Silver Spring Branch (Tributary No. 95) | Confluence with Carroll Creek | +347 | Frederick County (Unincorporated Areas).
| Approximately 400 feet downstream of Edgewood Church Road | +716 |
Tributary No. 122 to Horsehead Run | Confluence with Horsehead Run | +265 | Frederick County (Unincorporated Areas).
| Approximately 1.1 miles upstream of confluence with Horsehead Run | +298 |
Tributary No. 123 to Horsehead Run | Confluence with Horsehead Run | +265 | Frederick County (Unincorporated Areas).
| Approximately 1.0 mile upstream of confluence with Horsehead Run | +310 |
Tributary No. 124 to Horsehead Run | Confluence with Horsehead Run | +264 | Frederick County (Unincorporated Areas).
| Approximately 0.1 mile upstream of Manor Woods Road | +284 |
Tributary No. 125 to Horsehead Run | Confluence with Horsehead Run | +253 | Frederick County (Unincorporated Areas).
| Approximately 0.4 mile upstream of confluence with Horsehead Run | +274 |
Tributary No. 126 to Tributary No. 125 to Horsehead Run | 0.4 mile upstream of outlet to Horsehead Run | +274 | Frederick County (Unincorporated Areas).
| Just downstream of New Design Road | +287 |
Tributary No. 127 to Rocky Fountain Run | Confluence with Rocky Fountain Run | +246 | Frederick County (Unincorporated Areas).
| Approximately 1.1 miles upstream of confluence with Rocky Fountain Run | +291 |
Tributary No. 128 to Rocky Fountain Run | Confluence with Rocky Fountain Run | +243 | Frederick County (Unincorporated Areas).
| Just downstream of Baltimore and Ohio Railroad | +279 |
Tributary No. 5 to Rock Creek | Confluence with Rock Creek | +328 | Frederick County (Unincorporated Areas).
| Approximately 0.1 mile upstream of West Patrick Street | +395 |
Tributary No. 6 to Carroll Creek | Confluence with Carroll Creek | +293 | Frederick County (Unincorporated Areas).
| Just downstream of Butterfly Lane | +410 |
Tributary No. 89 to Little Tuscarora Creek | Confluence with Little Tuscarora Creek | +314 | Frederick County (Unincorporated Areas).
| Just downstream of Springhill Drive | +359 |
Tributary to Glade Creek | Confluence with Glade Creek | +292 | Frederick County (Unincorporated Areas).
| Just downstream of Devilbliss Bridge Road | +334 |
Tributary to Tributary No. 89 to Little Tuscarora Creek | Confluence with Tributary No. 89 to Little Tuscarora Creek | +355 | Frederick County (Unincorporated Areas).
| Just upstream of Christophers Crossing | +402 |
Tuscarora Creek | Confluence with Monocacy River | +274 | Frederick County (Unincorporated Areas).
| Confluence of Clifford Branch | +367 |
Two Mile Run (Tributary No. 10/93) | Just downstream of Worman's Mill Court | +269 | Frederick County (Unincorporated Areas).
| Confluence with Monocacy River | +269 |
Worman's Run (Tributary No. 11) | Confluence with Monocacy River | +269 | Frederick County (Unincorporated Areas).
| Just Upstream of North Market Street | +269 |
* National Geodetic Vertical Datum.
# Depth in feet above ground.
+ North American Vertical Datum.
ADDRESSES
Frederick County (Unincorporated Areas)
Maps are available for inspection at the Planning and Zoning Department, Winchester Hall, 12 East Church Street, Frederick, Maryland 21701.
City of Frederick
Maps are available for inspection at the Engineering Department, City Hall, 101 North Court Street, Frederick, Maryland 21701.
Town of Walkersville
Maps are available for inspection at the Town Hall, 21 West Frederick Street, Walkersville, Maryland 21793.
Blount County, Tennessee and Incorporated Areas
Docket No.: FEMA-B-7700
Brown Creek | At confluence with Pistol Creek | +880 | City of Maryville.
| At Grandview Dr | +961 |
Cross Creek | At confluence with Pistol Creek | +956 | City of Maryville.
| At Oxford Hills Dr | +1002 |
Culton Creek | At confluence with Pistol Creek | +848 | City of Alcoa, Blount County (Unincorporated Areas), City of Maryville.
| At Middlesettlements Rd | +858 |
Duncan Branch | At U.S. 129 bypass | +906 | City of Maryville.
| At confluence with Brown Creek | +929 |
Laurel Bank Branch | At Middlesettlements Rd | +856 | Blount County (Unincorporated Areas), City of Maryville.
| At Big Springs Rd | +871 |
Little River | At Wildwood Bridge | +859 | Blount County (Unincorporated Areas), City of Townsend.
| At Webb Road | +1045 |
Pistol Creek | At Carpenter's Grade Rd | +957 | City of Alcoa.
| At Campground Bridge/Davey Crockett Drive | +1112 |
Russell Branch | At Confluence with Little River | +826 | City of Rockford.
| At Wright Rd | +911 |
Springfield Branch | At Eagleton Rd | +846 | City of Maryville.
| At Old Knoxville Pike | +869 |
Unnamed Tributary to Brown Creek | At confluence with Brown Creek | +919 | City of Maryville.
| At Amerine Rd | +1002 |
Unnamed Tributary to Laurel Bank Branch | At confluence with Laurel Bank Branch | +871 | Blount County (Unincorporated Areas), City of Maryville.
| At U.S. Hwy 129 | +1008 |
Unnamed Tributary to Springfield Branch | At confluence with Springfield Branch | +842 | City of Maryville.
| At Harding St | +859 |
*National Geodetic Vertical Datum.
#Depth in feet above ground.
+North American Vertical Datum.
ADDRESSES
Blount County (Unincorporated Areas)
Maps are available for inspection at: Blount County Zoning Department, 1006 East Lamar Alexander Parkway, Maryville, Tennessee 37804.
City of Alcoa
Maps are available for inspection at: City of Alcoa Planning And Codes Department, 223 Associate Blvd., Alcoa, Tennessee 37701.
City of Maryville
Maps are available for inspection at: City of Maryville Engineering Department, 416 West Broadway Avenue, Maryville, Tennessee 37801.
City of Rockford
Maps are available for inspection at: Rockford Town Hall, 3719 Little River Road, Rockford, Tennessee 37853.
City of Townsend
Maps are available for inspection at: Townsend City Hall, 133 Tiger Drive, Townsend, Tennessee 37882.

(Catalog of Federal Domestic Assistance No. 83.100, “Flood Insurance.”)

Dated: March 26, 2007.
David I. Maurstad,
Director, Mitigation Division, Federal Emergency Management Agency, Department of Homeland Security.

[FR Doc. E7-6556 Filed 4-6-07; 8:45 am]

BILLING CODE 9110-12-P